DEPARTMENT OF JUSTICE

Drug Enforcement Administration

[Docket No. DEA-392]

Bulk Manufacturer of Controlled Substances Application: AUSTIN PHARMA, LLC

ACTION: Notice of Correction.

In Federal Register document (FR DOC) 2014-12944, on page 32322, in the issue of Wednesday, June 4, 2014, make the following correction:

On page 32322, in the second column, the third paragraph, the first sentence should read as follows:

In reference to drug code 7360, the company plans to manufacture synthetic cannabidiol in bulk for sale to its customers.

Dated: June 10, 2014.
Joseph T. Rannazzisi,
Deputy Assistant Administrator.

[FR Doc. 2014-14144 Filed 6-16-14; 8:45 am]

BILLING CODE 4410-09-P